DEPARTMENT OF HOUSING AND URBAN DEVELOPMENT

[Docket No. FR-4800-FA-24]

Announcement of Funding Award—FY 2003; Healthy Homes Demonstration Program

AGENCY: Office of the Secretary, Office of Healthy Homes and Lead Hazard Control, HUD.

ACTION: Announcement of funding awards.

SUMMARY: In accordance with section 102(a)(4)(C) of the Department of Housing and Urban Development Reform Act of 1989, this announcement notifies the public of a funding decision made by the Department in a competition for funding under the Healthy Homes Demonstration Program Notice of Funding Availability (NOFA). This announcement contains the name and address of the award recipients and the amounts of award.

FOR FURTHER INFORMATION CONTACT: Jonnette Hawkins, Department of Housing and Urban Development, Office of Healthy Homes and Lead Hazard Control, Room 8236, 451 Seventh Street, SW., Washington, DC, 20410, telephone (202) 755-1785, ext. 7593. Hearing- and speech-impaired persons may access the number above via TTY by calling the toll free Federal Information Relay Service at 1-800-877-8339.

SUPPLEMENTARY INFORMATION: The 2003 awards were announced in the HUD News Release on October 2, 2003. These awards were the result of a competition announced in a Federal Register notice published on April 25, 2003 (68 FR 21363) for the Healthy Homes Demonstration Program. The purpose of the competition was to award grant funding for grants and cooperative agreements under this program. Applications were scored and selected on the basis of selection criteria contained in that Notice.

In accordance with section 102(a)(4)(C) of the Department of Housing and Urban Development Reform Act of 1989 (103 Stat. 1987, 42 U.S.C. 3545), the Department is publishing the names, addresses, and amounts of these awards as follows:

A total of $5,916,355 was awarded to seven grantees for the Healthy Homes Demonstration Program: Cuyahoga County Board of Health, 1375 Euclid Avenue, 5th Floor, Cleveland, OH 44115, $950,000; Department of Health, County of Erie, 95 Franklin Street, Room 910, Buffalo, NY 14202, $950,000; Board of Mahoning County Commissioners, 21 West Boardman Street, Suite 300, Youngstown, OH 44503, $900,000; Neighborhood House, Inc., 905 Spruce Street, Seattle, WA 98104, $850,000; City of Minneapolis, 250 S. Fourth Street, Room 414, Minneapolis, MN 55415, $650,000; NY Indoor Environmental Quality Center, Inc., 505 Irving Avenue, Syracuse, NY 13210, $850,000; The Medical Foundation, NE Asthma Regional Council, 95 Berkeley Street, Boston, MA 02116, $766,355.

Dated: June 12, 2006.
Warren Friedman,
Deputy Director, Office of Healthy Homes and Lead Hazard Control.

[FR Doc. E6-10224 Filed 6-28-06; 8:45 am]

BILLING CODE 4210-67-P